DEPARTMENT OF THE INTERIOR

Bureau of Land Management

[CO-956-7130 BJ-7359-241A]

Colorado: Filing of Plats of Survey

September 29, 2000.

The plats of survey of the following described land will be officially filed in the Colorado State Office, Bureau of Land Management, Lakewood, Colorado, effective 10:00 am., September 29, 2000. All inquiries should be sent to the Colorado State Office, Bureau of Land Management, 2850 Youngfield Street, Lakewood, Colorado 80215-7093.

The plat representing the dependent resurvey of a portion of the subdivisional lines, and the subdivision of certain sections, and the retracement of a portion of the Colorado-New Mexico boundary, T 32 N., R. 10 W., New Mexico principal Meridian, Group 1230, Colorado, was accepted September 7, 2000.

This survey was requested by the Bureau of Indian Affairs for administrative purposes.

The plat representing the dependent resurvey of portions of the subdivisional lines and subdivisional lines of certain sections and the subdivision of section 23, and the survey of irregular boundaries in certain sections, T. 40 N., R. 2 W., New Mexico Principal Meridian, Group 1261, Colorado, was accepted July 27, 2000.

The amended protraction diagram, 24 C, prepared for the express purpose of describing unsurveyed public land and may be used for leasing and administrative purposes only in T. 42 N., R. 7 W., New Mexico Principal Meridian, Group 1297, Colorado, was accepted September 25, 2000.

These surveys were requested by the Forest Service for administrative purposes.

The plat representing the corrective dependent resurvey of a portion of the south boundary and the dependent resurvey of a portion of the Seventh Guide Meridian West (E. Bdy.) and a portion of the subdivisional lines, and the subdivision survey of sections 34 and 35, and the metes-and-bounds surveys of an easement in section 34, and a portion of the East Boundary, Pinion Canyon Maneuver Site, T. 29 S., R. 57 W., Sixth Principal Meridian, Group 1001, Colorado, was accepted September 14, 2000.

The plat representing the dependent resurvey of a portion of the Sixth Standard Parallel South, a portion of the subdivisional lines and a metes-and-bounds of the east boundary of the Pinion Canyon Maneuver Site in sections 25, 35, and 36, in T. 30 S., R. 58 W., Sixth Principal Meridian, Group 1001, Colorado, was accepted September 14, 2000.

The plat representing the dependent resurvey of a portion of the subdivisional lines and a metes-and-bounds survey of the east boundary of the Pinion Canyon Maneuver Site, T. 31 S., R. 58 W., Sixth Principal Meridian, Group 1001, Colorado, was accepted September 14, 2000.

The plat representing the dependent resurvey of a portion of the east boundary and a portion of the subdivisional lines, and a metes-and-bounds survey of a portion of the South Boundary of the Pinion Canyon Maneuver Site, T. 31 S., R. 59 W., Sixth Principal Meridian, Group 1001, Colorado, was accepted September 14, 2000.

These surveys were requested by the Army for administrative purposes.

The supplemental plat, creating lots in section 11, and new lots 4, 5, and 6 from old lot 1 in section 13, and new lots 11 and 12 from old lot 1 in section 14, in T. 3 N., R. 71 W., Sixth Principal Meridian, Colorado, was accepted August 3, 2000.

The supplemental plat, creating new lots 52 and 53 from old lot 2, in the 4NW¼ of section 12, T. 1 N., R. 73 W., Sixth Principal Meridian, Colorado, was accepted August 14, 2000.

The plat representing the dependent resurvey of a portion of the subdivisional lines and certain tract lines, and the subdivision of section 14 and an informative traverse along the center line of a dirt road in section 14, T. 2 S., R. 85 W., Sixth Principal Meridian, Group 1274, Colorado, was accepted September 21, 2000.

The plat representing the dependent resurvey of portions of the north boundary and the subdivisional lines, and the subdivision of certain sections in T. 2 S., R. 94 W., Group 1244, Colorado, was accepted September 26, 2000.

The plat, in two sheets, representing the dependent resurvey of a portion of the east, west, and north boundaries and subdivisional lines, and the subdivision of certain sections, T. 8 S., R. 98 W., Sixth Principal Meridian, Group 1218, Colorado, was accepted July 18, 2000.

The plat representing the dependent resurvey of a portion of the Eighth Standard Parallel North (south boundary) and a portion of the subdivisional lines, and the subdivision survey of certain sections, T. 33 N., R. 10 E., New Mexico Principal Meridian, Group 1225, Colorado, was accepted August 1, 2000.

The plat, in 4 sheets, represents the dependent resurvey of portions of the subdivisional lines and certain claim lines, and a metes-and-bounds survey, all in sections 29, 30, 31, and 32, T. 8 N., R. 97 W., Sixth Principal Meridian, Group 1231, Colorado, was accepted August 31, 2000.

The plat representing the entire record of the dependent resurvey of certain claim lines, in section 1, T. 7 N., R. 98 W., Sixth Principal Meridian, Group 1231, Colorado, was accepted August 31, 2000.

The plat, in two sheets, representing the entire record, the dependent resurvey of a portion of the west boundary, certain claim lines, and a metes-and-bounds survey in section 6, T. 7 N., R. 97 W., Sixth Principal Meridian, Group 1231, Colorado, was accepted August 31, 2000.

The plat representing the entire record of the dependent resurvey of a portion of the west boundary and subdivisional lines, with subdivision of section and metes-and-bounds surveys in sections 29 and 30, T. 45 N., R. 5 E., New Mexico Principal Meridian, Group 1263, Colorado, was accepted September 14, 2000.

These surveys were requested by the Bureau of Land Management for administrative purposes.

Darryl A. Wilson,
Chief Cadastral Surveyor for Colorado.

[FR Doc. 00-26102 Filed 10-11-00; 8:45 am]

BILLING CODE 4310-JB-P